DEPARTMENT OF THE INTERIOR

Fish and Wildlife Service

[FWS-R4-ES-2017-N019; FXES11140400000-178-FF04E00000]

Threatened Wildlife; Incidental Take Permit Application and Environmental Assessment for Road Construction Activities; Hernando and Citrus Counties, FL

AGENCY: Fish and Wildlife Service, Interior.

ACTION: Notice of availability; request for comments.

SUMMARY: Under the Endangered Species Act of 1973, as amended (Act), we, the U.S. Fish and Wildlife Service, announce the receipt and availability of a proposed habitat conservation plan (HCP) and accompanying documents for activities associated with the construction of the Suncoast Parkway 2, a four-lane limited-access toll facility (project) in Citrus and Hernando Counties, Florida. If issued, the permit would authorize take of the federally threatened eastern indigo snake (indigo snake) and the Federal candidate gopher tortoise incidental to project construction. We invite the public to comment on these documents.

DATES: To ensure consideration, please send your written comments by May 17, 2017.

ADDRESSES: Obtaining Documents: Documents are available for public inspection by appointment during regular business hours at either of the following locations:

• Atlanta Regional Office, Ecological Services, U.S. Fish and Wildlife Service, 1875 Century Boulevard, Atlanta, GA 30345.

• North Florida Ecological Services Office, Fish and Wildlife Service, 7915 Baymeadows Way, Suite 200, Jacksonville, FL 32256-7517.

Submitting Comments: Submit comments by one of the following methods. Please reference TE97201B-0 in all comments. For additional guidance, please see Public Comments under SUPPLEMENTARY INFORMATION.

U.S. mail: You may mail comments to the Fish and Wildlife Service's Atlanta Regional Office.

Hand-delivery: You may hand-deliver comments to the Atlanta or the Jacksonville Office.

Email: You may email comments to david_dell@fws.gov. Please include your name and return address in your email message. If you do not receive a confirmation from us that we have received your email message, contact us directly at either telephone number in FOR FURTHER INFORMATION CONTACT.

FOR FURTHER INFORMATION CONTACT: Mr. David Dell, Regional HCP Coordinator, (see ADDRESSES), telephone: 404-679-7313; or Jay Herrington, Field Supervisor, at the North Florida Ecological Services Office (see ADDRESSES), telephone: 904-731-3191. If you use a telecommunications device for the deaf (TDD), please call the Federal Relay Service at 800-877-8339.

SUPPLEMENTARY INFORMATION: Under the Endangered Species Act of 1973, as amended (Act), we, the U.S. Fish and Wildlife Service, announce the receipt and availability of a proposed habitat conservation plan (HCP), accompanying incidental take permit (ITP) application, and environmental assessment (EA) related to an application from Florida's Turnpike Enterprise (applicant), a unit of the Florida Department of Transportation (FDOT), for a permit associated with construction of the Suncoast Parkway 2, a limited-access toll facility (project) in Hernando and Citrus Counties, Florida. We invite the public to comment on these documents.

The applicant's proposed HCP describes the mitigation and minimization measures proposed to address the impacts resulting from take of the eastern indigo snake (Drymarchon courais cooperi) and gopher tortoise (Gopherus polyphemus), the covered species, incidental to the project. Per the National Environmental Policy Act (42 U.S.C. 4321 et seq.; NEPA), the EA analyzes the take of the covered species and the environment. The applicant requests a 10-year ITP under section 10(a)(1)(B) of the Act, as amended (16 U.S.C. 1531 et seq.).

Environmental Assessment

The EA assesses the likely environmental impacts associated with the project, including the environmental consequences of the no-action alternative and the proposed action alternative. The proposed action alternative is issuance of the ITP and implementation of the HCP as submitted by the applicant. The applicant anticipates direct impacts to approximately 700 acres of indigo snake and gopher tortoise suitable habitat incidental to project construction.

Habitat Conservation Plan

The minimization and mitigation measures proposed in the HCP include an extensive network of wildlife fencing and crossings to improve habitat connectivity and minimize wildlife mortality associated with the roadway; multiple safety features to support implementation of the Florida Forest Service (FFS) Resource Management Plan; various avoidance and minimization measures to reduce direct and indirect impacts to the covered species; a monetary contribution to the Friends of the Florida State Forests, Inc. for land management activities; and the purchase of high-quality, regionally significant mitigation parcels approved by the FFS and the Florida Fish and Wildlife Conservation Commission (FWC) prior to the completion of the project. Upon acquisition, each mitigation parcel would be transferred to the State of Florida for management by FFS or FWC. In accordance with FWC permitting guidelines, gopher tortoises within the approximately 1,300-acre proposed project area will be relocated prior to construction activities, and therefore are not expected to be subject to take via injury, mortality, or harassment during project construction.

Public Comments

We specifically request information, views, and opinions from the public on our proposed Federal action, including but not limited to identification of any other aspects of the human environment not already identified in the EA pursuant to the National Environmental Policy Act (NEPA) regulations in the Code of Federal Regulations (CFR) at 40 CFR 1506.6. Further, we specifically solicit information regarding the adequacy of the HCP per 50 CFR parts 13 and 17.

Before including your address, phone number, email address, or other personal identifying information in your comment, you should be aware that your entire comment—including your personal identifying information—may be made publicly available at any time. While you can ask us in your comment to withhold your personal identifying information from public review, we cannot guarantee that we will be able to do so.

Covered Area

Indigo snakes and gopher tortoises historically occurred in longleaf pine (Pinus palustris) sandhill habitats found throughout the proposed project area. The area encompassed by the HCP and ITP application consists of public, private, and applicant-owned lands currently occupied by the species or suitable for occupancy by restoration as indigo snake and gopher tortoise habitat.

Next Steps

We will evaluate the ITP application, including the HCP, and any comments we receive to determine whether the application meets the requirements of section 10(a)(1)(B) of the Act. We will also conduct an intra-Service section 7 consultation to evaluate whether to issue the requested section 10(a)(1)(B) ITP. We will use the results of this consultation, in combination with the above findings, in our final analysis to determine whether or not to issue the ITP. If we determine that the requirements are met, we will issue the ITP for the incidental take of the eastern indigo snake and gopher tortoise.

Authority

We provide this notice under section 10 of the Act (16 U.S.C. 1531 et seq.) and NEPA regulations (40 CFR 1506.6).

Dated: February 15, 2017.
Mike Oetker,
Acting Regional Director.

[FR Doc. 2017-07676 Filed 4-14-17; 8:45 am]

BILLING CODE 4333-15-P